ENVIRONMENTAL PROTECTION AGENCY

[FRL-8897-1]

Cross-Media Electronic Reporting Rule State Authorized/Approved Program Modification/Revision Approval: State of Texas

AGENCY: Environmental Protection Agency (EPA).

ACTION: Notice.

SUMMARY: This notice announces EPA's approval, under regulations for Cross-Media Electronic Reporting, of the State of Texas' request to modify/revise their program to allow electronic reporting for certain of their EPA-authorized programs. This notice also announces an opportunity to request a public hearing on EPA's approval of the State of Texas' request to revise their EPA-authorized National Primary Drinking Water Regulations Implementation program to allow electronic reporting.

DATES: EPA's approval is effective May 27, 2009 for the State of Texas' National Primary Drinking Water Regulations Implementation program if no timely request for a public hearing is received and accepted by the Agency; and on April 27, 2009 for the State of Texas' other authorized programs.

FOR FURTHER INFORMATION CONTACT: Evi Huffer, U.S. Environmental Protection Agency, Office of Environmental Information, Mail Stop 2823T, 1200 Pennsylvania Avenue, NW., Washington, DC 20460, (202) 566-1697, huffer.evi@epa.gov, or David Schwarz, U.S. Environmental Protection Agency, Office of Environmental Information, Mail Stop 2823T, 1200 Pennsylvania Avenue, NW., Washington, DC 20460, (202) 566-1704, schwarz.david@epa.gov. All requests for a hearing should be submitted to both of the above contacts.

SUPPLEMENTARY INFORMATION:

On October 13, 2005, the final Cross-Media Electronic Reporting Rule (CROMERR) was published in the Federal Register (70 FR 59848) and codified as Part 3 of title 40 of the CFR. CROMERR establishes electronic reporting as an acceptable regulatory alternative to paper reporting and establishes requirements to assure that electronic documents are as legally dependable as their paper counterparts. Under Subpart D of CROMERR, state, tribal or local government agencies that receive, or wish to begin receiving, electronic reports under their EPA-authorized programs must apply to EPA for a revision or modification of those programs and get EPA approval. Subpart D provides standards for such approvals based on consideration of the electronic document receiving systems that the state, tribe, or local government will use to implement the electronic reporting. Additionally, in § 3.1000(b) through (e) of 40 CFR Part 3, Subpart D provides special procedures for program revisions and modifications to allow electronic reporting to be used at the option of the state, tribe or local government in place of procedures available under existing program-specific authorization regulations. An application submitted under the Subpart D procedures must show that the state, tribe or local government has sufficient legal authority to implement the electronic reporting components of the programs covered by the application and will use electronic document receiving systems that meet the applicable Subpart D requirements.

On October 14, 2008, the Texas State Commission on Environmental Quality (TCEQ) submitted two applications, for their Net Discharge Monitoring Report (NetDMR) and the State of Texas Environmental Electronic Reporting System (STEERS) electronic document receiving systems for revision or modification of multiple authorized programs under 40 CFR parts 51, 60, 63, 70, 123, 142, 233-404, 271, 281, and 403.

EPA reviewed TCEQ's requests to revise/modify multiple authorized programs and, based on this review, EPA determined the two applications met the standards for approval of authorized program revisions/modifications set out in 40 CFR Part 3, Subpart D. In accordance with 40 CFR 3.1000(d), this notice of EPA's decision to approve TCEQ's requests for modifications/revisions to certain of their authorized programs under title 40 to allow electronic reporting for specific reports under those programs is being published in the Federal Register.

Specifically, EPA has approved TCEQ's request for modifications/revisions to the following of their authorized programs to allow electronic reporting under 40 CFR parts 51, 60-63, 70, 122-124, 141, 239, 262, 264-266, 268, 270, 280, and 403:

• Part 51—Requirements for Preparation, Adoption, and Submittal of Implementation Plans;

• Part 60—Standards of Performance for New Stationary Sources;

• Part 63—National Emission Standards for Hazardous Air Pollutants for Source Categories;

• Part 70—State Operating Permit Programs;

• Part 123—State Program Requirements;

• Part 142—National Primary Drinking Water Regulations Implementation;

• Part 233-404—State Program Regulations;

• Part 271—Requirements for Authorization of State Hazardous Waste Programs;

• Part 281—Approval of State Underground Storage Tank Programs; and

• Part 403—General Pretreatment Regulations for Existing and New Sources of Pollution.

TCEQ was notified of EPA's determination to approve its two applications with respect to the authorized programs listed above in a letter dated 04/16/2009.

Also, in today's notice, EPA is informing interested persons that they may request a public hearing on EPA's action to approve the State of Texas' request to revise their authorized public water system program under 40 CFR Part 142, in accordance with 40 CFR 3.1000(f). Requests for a hearing must be submitted to EPA within 30 days of publication of today's Federal Register notice. Such requests should include the following information:

(1) The name, address and telephone number of the individual, organization or other entity requesting a hearing;

(2) A brief statement of the requesting person's interest in EPA's determination, a brief explanation as to why EPA should hold a hearing, and any other information that the requesting person wants EPA to consider when determining whether to grant the request;

(3) The signature of the individual making the request, or, if the request is made on behalf of an organization or other entity, the signature of a responsible official of the organization or other entity.

In the event a hearing is requested and granted, EPA will provide notice of the hearing in the Federal Register not less than 15 days prior to the scheduled hearing date. Frivolous or insubstantial requests for hearing may be denied by EPA. Following such a public hearing, EPA will review the record of the hearing and issue an order either affirming today's determination or rescinding such determination. If no timely request for a hearing is received and granted, EPA's approval of the State of Texas' request to revise their Part 142—National Primary Drinking Water Regulations Implementation program to allow electronic reporting will become effective 30 days after today's notice is published, pursuant to CROMERR section 3.1000(f)(4).

Dated: April 16, 2009.
Lisa Schlosser,
Director, Office of Information Collection.

[FR Doc. E9-9582 Filed 4-24-09; 8:45 am]

BILLING CODE 6560-50-P